DEPARTMENT OF HEALTH AND HUMAN SERVICES

Guidance to Federal Financial Assistance Recipients Regarding Title VI Prohibition Against National Origin Discrimination Affecting Limited English Proficient Persons

Correction

In notice document 03-20179 beginning on page 47311 in the issue of Friday, August 8, 2003, make the following corrections:

1. On page 47311, in the second column, under the SUMMARY heading, in the last line, “January 6, 2004” should read “December 8, 2003”.

2. On the same page, in the same column, under the DATES heading, in the third line, “January 6, 2004” should read “December 8, 2003”.

[FR Doc. C3-20179 Filed 8-18-03; 8:45 am]

BILLING CODE 1505-01-D

DEPARTMENT OF JUSTICE

Drug Enforcement Administration

[DEA # 237R]

Controlled Substances; Proposed Revised Aggregate Production Quotas for 2003

Correction

In notice document 03-19954 beginning on page 46664 in the issue of Wednesday, August 6, 2003 make the following correction:

On page 46664, the table is corrected in part to read as set forth below.

Basic class | Previously established initial 2003 quotas | Proposed revised 2003 quotas
Schedule I
2,5-Dimethoxyamphetamine | 9,501,000 | 9,501,000
2,5-Dimethoxy-4-ethylamphetamine (DOET) | 2 | 2
3-Methylfentanyl | 4 | 4
3-Methylthiofentanyl | 2 | 2
3,4-Methylenedioxyamphetamine (MDA) | 15 | 15
3,4-Methylenedioxy-N-ethylamphetamine (MDEA) | 10 | 10
3,4-Methylenedioxymethamphetamine (MDMA) | 19 | 19
3,4,5-Trimethoxyamphetamine | 2 | 2
4-Bromo-2,5-Dimethoxyamphetamine (DOB) | 2 | 2
4-Bromo-2,5-Dimethoxyphenethylamine (2-CB) | 2 | 2
4-Methoxyamphetamine | 7 | 7
4-Methylaminorex | 2 | 2
4-Methyl-2,5-Dimethoxyamphetamine (DOM) | 2 | 2
5-Methoxy-3,4-Methylenedioxyamphetamine | 2 | 2
Acetyl-alpha-methylfentanyl | 2 | 2
Acetyldihydrocodeine | 2 | 2
Acetylmethadol | 2 | 3

* * * * *

[FR Doc. C3-19954 Filed 8-18-03; 8:45 am]

BILLING CODE 1505-01-D